DEPARTMENT OF HOMELAND SECURITY

U.S. Customs and Border Protection

[OMB Control Number 1651-0NEW]

Agency Information Collection Activities; New Collection of Information; Operation Stonegarden Daily Activity Report

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than September 29, 2025) to be assured of consideration.

ADDRESSES: Written comments and/or suggestions regarding the item(s) contained in this notice must include the OMB Control Number 1651-0NEW in the subject line and the agency name. Please submit written comments and/or suggestions in English. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Operation Stonegarden Daily Activity Report.

OMB Number: 1651-0NEW.

Form Number: N/A.

Current Actions: New collection of information.

Type of Review: New collection of information.

Affected Public: Individuals.

Abstract: Operation Stonegarden provides funding to enhance cooperation and coordination among state, local, tribal, territorial, and federal law enforcement agencies to jointly enhance security along the United States land and water borders. Participation in Operation Stonegarden (OPSG) requires accurate, consistent, and timely reporting on monitoring program performance; determining the level of integration and information sharing; and developing best practices for future operations.

As a requirement, outlined in FEMA's Manual (FM) 207-22-0001 and the Fiscal Year 2023 Homeland Security Grant Program (HSGP), Daily Activity Reports (DAR) are used to submit the ongoing results and outputs from OPSG operations conducted. The information and statistics submitted to CBP included in the DAR will be delineated by OPSG subrecipients.

Subrecipients are approved county law enforcement agencies who receive the OPSG funding from their state governor's office to conduct OPSG duties. The DAR must be submitted to the U.S. Border Patrol (USBP) sector or the participating agency's OPSG coordinator within 48 hours of the conclusion of each OPSG shift. Subrecipients and Sectors are responsible to ensure that DARs are submitted in the proper format and in a timely manner. DARs are submitted using the CBP Stonegarden Data Management System. Other local, tribal, and territorial law enforcement agencies receiving funding through a subrecipient will submit DARs within 48 hours. Border Patrol Sectors and OPSG subrecipients will implement internal protocols to ensure operational data from subrecipients and DARs are properly collected following the established guidelines.

The information provided in the DAR includes but not limited to officers' names, government vehicle identification including license plates, and all information gathered while doing any vehicle stops. This information would include the name, vehicle description and license plate number of the person that was pulled over. Other information in the DARs includes any narcotic seizures that happened during their patrol while working Operation Stonegarden.

New Changes:

1. Transfer to CBP:

Historically, this collection of information was approved under FEMA's PRA control number 1660-0125, however, this collection has now been transferred to CBP ownership and in that process, CBP has reviewed the form and has made modifications to reduce the time burden. Having respondents submit their information directly to CBP through our electronic system, instead of the previous paper submissions, will reduce burden on the public and agency because it's easier to pre-fill the information. A new control number will be assigned after OMB approval.

Type of Information Collection: HSIN DAR Dashboard.

Estimated Number of Respondents: 1,095.

Estimated Number of Annual Responses per Respondent: 155.

Estimated Number of Total Annual Responses: 169,725.

Estimated Time per Response: 10 minutes.

Estimated Total Annual Burden Hours: 28,288.

Dated: July 25, 2025.
Seth D. Renkema,
Branch Chief, Economic Impact Analysis Branch, U.S. Customs and Border Protection.

[FR Doc. 2025-14311 Filed 7-28-25; 8:45 am]

BILLING CODE 9111-14-P